DEPARTMENT OF HEALTH AND HUMAN SERVICES

Centers for Disease Control and Prevention

[60Day-04-04JZ]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, or to send comments contact Seleda Perryman, CDC Assistant Reports Clearance Officer, 1600 Clifton Road, MS-E11, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Heart Health Matters for Duchenne Muscular Dystrophy (DMD) Carriers Too—New—National Center on Birth Defects and Developmental Disabilities (NCBDDD), Centers for Disease Control and Prevention (CDC).

Background and Brief Description: Duchenne Muscular Dystrophy (DMD) is the most common form of fatal muscular dystrophy in children. It affects about 1 in 3,500 boys. Although almost all cases of DMD are diagnosed in young males, the genetic condition that causes DMD is carried by females. Today, there are about 40,000 female DMD carriers in the United States. Females who carry this genetic condition generally do not have symptoms, but some may experience muscle weakness and fatigue. Sometimes, they may also develop heart problems that are characterized by shortness of breath or an inability to do moderate exercise. The chance that a female carrier will develop heart problems is unknown, but these heart problems are serious and can be life threatening. To learn more about the heart health behaviors of adult female DMD carriers, CDC, National Center on Birth Defects and Developmental Disabilities proposes to conduct a national survey.

A large sample of adult female carriers of DMD will be recruited for the study from the mailing lists of local, regional, and national organizations that work with DMD families. Approximately 1,500 individuals who agree to participate in the study will complete a confidential, one-time, self-administered questionnaire that will be mailed to their homes and will take approximately 30 minutes to complete. Respondents will also be given the option of responding to an electronic version of the survey accessed via the World Wide Web. Survey participants will be asked about social and psychological aspects of their genetic carrier status, their sources of social support, their awareness and knowledge of the link between genetic carrier status and heart health, issues about access to specialized cardiac health care, and sources of health information that they find trustworthy, accessible, and understandable.

There will be no costs to the respondent. Postage and a return envelope will be provided for participants who choose to complete and return their survey by mail.

Annualized Burden Table
Respondents | Number of respondents | Number of responses per respondent | Average burden per response (in hrs.) | Total burden hours
Complete Questionnaire | 1,500 | 1 | 30/60 | 750
Total |  |  |  | 750

Dated: August 12, 2004.
Alvin Hall,
Director, Management Analysis and Services Office, Centers for Disease Control and Prevention.

[FR Doc. 04-19216 Filed 8-20-04; 8:45 am]

BILLING CODE 4163-18-P